DEPARTMENT OF THE INTERIOR

National Park Service

[NPS-WASO-NRNHL-0212-9442; 2200-3200-665]

National Register of Historic Places; Notification of Pending Nominations and Related Actions

Nominations for the following properties being considered for listing or related actions in the National Register were received by the National Park Service before January 28, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by March 9, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

COLORADO

Costilla County

Capilla de Viejo San Acacio, (Culebra River Villages of Costilla County MPS) 14152 Cty. Rd. 14.8, Viejo San Acacio, 12000091

Iglesia de San Pedro y San Pablo, (Culebra River Villages of Costilla County MPS) 11423 Cty. Rd. 21, San Pedro, 12000090

Iglesia de la Inmaculada Concepcion, (Culebra River Villages of Costilla County MPS) 21529 Cty. Rd. P.6, Charma, 12000089

FLORIDA

Monroe County

Sombrero Key Light, (Light Stations of the United States MPS) Offshore approx. 5.5 mi. SSW. of Marathon, 12000092

GEORGIA

Muscogee County

Mott—Fox—Huguley House, 2027 6th Ave., Columbus, 12000093

IOWA

Benton County

Iowa Canning Company Seed House Building, 201 1st Ave., Vinton, 12000094

Clayton County

Elkader Downtown Historic District, (Elkader Downtown MPS) Portions of 100 & 200 blks. of Main St. & side streets., Elkader, 12000095

Linn County

Bohemian Commercial Historic District, (Cedar Rapids, Iowa MPS) Roughly bounded by 9th Ave. SE., 4th St. SE., 14th Ave. SE., 15th Ave. SW., C St. SW., 17th Ave. SW. & A St. SW., Cedar Rapids, 12000096

MARYLAND

Baltimore County

Anneslie Historic District, Roughly bounded by York, Maplewood, & Windwood Rds., & Regester Ave., Towson, 12000097

MASSACHUSETTS

Essex County

American Woolen Company Townhouses, 1-14 Wood Way, 1-14 Washington Way, 1-14 Prospect Way, Lawrence, 12000098

Suffolk County

Terminal Storage Warehouse District, 267-281 Medford St., 40 & 50 Terminal St., Boston, 12000099

MISSOURI

Polk County

Dimmitt, George, Memorial Hospital, 102 S. Bolivar Rd., Humansville, 12000101

St. Louis Independent city

Reber Place Historic District, Roughly bounded by Arsenal St., Kingshighway Blvd., Southwest Ave. and alley E. of Hereford St., Saint Louis (Independent City), 12000100

NEBRASKA

Douglas County

Capitol Garage, 202 N. 19th St., Omaha, 12000102

St. Richard's Catholic School and Rectory, 4318 & 4320 Fort St., Omaha, 12000103

Lancaster County

Beatrice Creamery Company Lincoln Plant, 726 L St., Lincoln, 12000104

Madison County

Mathewson—Gerecke House, 1202 W. Norfolk Ave., Norfolk, 12000105

Morrill County

Greenwood Stage Station, Address Restricted, Bridgeport, 12000106

Nuckolls County

Superior City Hall and Auditorium, 450 N. Commercial, Superior, 12000107

NEW JERSEY

Camden County

Macedonia African Methodist Episcopal Church, 261-265 Spruce St., Camden City, 12000108

Morris County

Millington Schoolhouse, 1802 Long Hill Rd. (Long Hill Township), Millington, 12000109

OHIO

Ross County

Chillicothe Veterans Administration Hospital, (United States Second Generation Veterans Hospitals) 17273 OH 104, Chillicothe, 12000110

OKLAHOMA

Cleveland County

Downtown Norman Historic District (Boundary Increase), Roughly bounded by Webster, Gray, Porter, Eufaula, James Garner, & Comanche, Norman, 12000111

Custer County

Heerwald Site, Address Restricted, Clinton, 12000112

Kay County

Santa Fe Depot, Near jct. of S. 1st & W. Oklahoma, Ponca City, 12000113

Osage County

Drummond, Fred & Adeline, House, 305 N. Price Ave., Hominy, 12000114

TENNESSEE

Carroll County

Court Theatre, 155 Court Sq., Huntingdon, 12000115

Chester County

National Teacher's Normal and Business College Administration Building, 158 E. Main St., Henderson, 12000116

Gibson County

Gibson County Training School, 1041 S. Harris St., Milan, 12000117

Hamilton County

Highland Park Methodist Episcopal Church, South, 1918 Union Ave., Chattanooga, 12000118

Rutherford County

Murfreesboro Veterans Administration Hospital Historic District, (United States Second Generation Veterans Hospitals) 3400 Lebanon Pike, Murfreesboro, 12000119

Old First Presbyterian Church and Old City Cemetery, 390 E. Vine St., Murfreesboro, 12000120

Williamson County

Fewkes Group Archeological Site (Boundary Increase), (Mississippian Cultural Resources of the Central Basin (AD 900-1450) MPS) 8400 Moores Ln., Brentwood, 12000121

VIRGINIA

Amherst County

Clifford—New Glasgow Historic District, Patrick Henry Hwy. & Fletchers Level Rd., Clifford, 12000122

Fauquier County

Old Denton, 7064 Young Rd., The Plains, 12000123

[FR Doc. 2012-4130 Filed 2-22-12; 8:45 am]

BILLING CODE 4312-51-P